ENVIRONMENTAL PROTECTION AGENCY

[ER-FRL-6646-1]

Environmental Impact Statements; Notice of Availability

Responsible Agency: Office of Federal Activities, General Information (202) 564-7167 or http://www.epa.gov/compliance/nepa/.

Weekly receipt of Environmental Impact Statements

Filed November 24, 2003, through November 28, 2003

Pursuant to 40 CFR 1506.9.

EIS No. 030542, Final EIS, HHS, MD, Integrated Research Facility (IRF) at Fort Detrick construction and operation, adjacent to existing U.S. Army Medical Research Institute of Infectious Diseases Facilities, City of Frederick, Frederick County, MD, Due: January 5, 2004, Contact: Ronald Wilson (301) 496-5037.

EIS No. 030543, Final Supplement, BLM, NV, Millennium Expansion Project, new facilities construction and existed gold mining operations expansion, plan-of-operations approval, Winnemucca, Humboldt County, NV, Due: January 5, 2004, Contact: Jeff Johnson (775) 623-1500.

EIS No. 030544, Draft EIS, AFS, AZ, Bar T Bar Anderson Springs allotment management plans, to authorize permitted livestock grazing for a 10-year period, Coconino National Forest, Mogollon Rim and Mormon Lake Ranger Districts, Coconino County, AZ, Due: January 20, 2004, Contact: Jerry Gonzales (928) 354-2216.

EIS No. 030545, Final EIS, FRC, FL, Ocean Express Pipeline Project, construction, operation and maintenance of an interstate natural gas pipeline extending from the Exclusive Economic Zone (EEZ) boundary between the United States and the Bahamas, (Docket No. CP02-090-001-1) plan of operations approval, NPDES and U.S. Army COE section 10 and possible 404 permits, Broward County, FL, Due: January 5, 2004, Contact: Thomas Russo (866) 208-3372.

Dated: December 2, 2003.
Joseph C. Montgomery,
Director, NEPA Compliance Division, Office of Federal Activities.

[FR Doc. 03-30273 Filed 12-4-03; 8:45 am]

BILLING CODE 6560-50-P